DEPARTMENT OF STATE

[Public Notice: 7513]

Determination Under Section 107(a) of the William Wilberforce Trafficking Victims Protection Reauthorization Act of 2008

Pursuant to the authority vested in me by Section 107(a) of the William Wilberforce Trafficking Victims Protection Act of 2008 (Pub. L. 110-457) and Delegation of Waiver Authority Pursuant to Section 107(a) of Public Law 110-457, I hereby determine that a waiver of the application of clause (i) of Section 110(b)(3)(D) of the Trafficking Victims Protection Act of 2000, as amended (Pub. L. 106-386), is justified with respect to Azerbaijan, Bangladesh, Cameroon, China, Republic of the Congo, Guinea, Iraq, Mali, Qatar, Russia, St. Vincent and Grenadines, Tunisia, and Uzbekistan.

This Determination shall be reported to Congress and published in the Federal Register.

Dated: June 15, 2011.
Hillary Rodham Clinton,
Secretary of State, U.S. Department of State.

[FR Doc. 2011-16756 Filed 7-1-11; 8:45 am]

BILLING CODE 4710-02-P